DEPARTMENT OF TRANSPORTATION

Maritime Administration

[Docket No. MARAD-2019-0157]

Request for Comments on the Approval of a Previously Approved Information Collection: Voluntary Tanker Agreement

AGENCY: Maritime Administration, DOT.

ACTION: Notice and request for comments.

SUMMARY: The Maritime Administration (MARAD) invites public comments on our intention to request the Office of Management and Budget (OMB) approval to renew an information collection. This collection of information is used to gather information on tanker operators who agree to contribute, either by direct charter to the Department of Defense or to other participants tanker capacity as requested by the Maritime Administrator at such times and such amounts as determined to be necessary to meet the essential needs of DOD for the transportation of petroleum and petroleum products in bulk by sea. The Voluntary Tanker Agreement is a voluntary emergency preparedness agreement. We are required to publish this notice in the Federal Register by the Paperwork Reduction Act of 1995.

DATES: Comments must be submitted on or before December 6, 2019.

ADDRESSES: You may submit comments identified by Docket No. MARAD-2019-0157 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Ram Nagendran, 202-366-8584, Office of Sealift Support, U.S. Department of Transportation, 1200 New Jersey Avenue SE, Washington, DC, 20590, Email: ram.nagendran@dot.gov.

SUPPLEMENTARY INFORMATION:

Title: Voluntary Tanker Agreement.

OMB Control Number: 2133-0505.

Type of Request: Renewal of a previously approved information collection.

Abstract: The Voluntary Tanker Agreement is a voluntary emergency preparedness agreement in accordance with Section 708, Defense Production Act, as amended (50 U.S.C. 4558). The collection consists of a request from the Maritime Administration (MARAD) that each participant in the Voluntary Tanker Agreement submit a list of the names of ships owned, chartered or contracted for by the participant, their size, flags of registry, and other pertinent information. There is a recommended format for this information included as part of the application. The collection of information is necessary to evaluate tanker capability and make plans for use of this capability to meet national emergency requirements. This information will be used by both MARAD and Department of Defense to establish contingency plans.

Respondents: Coastwise qualified vessel owners, operators, charterers, brokers and vessel representatives.

Affected Public: Business or other for profit.

Estimated Number of Respondents: 15.

Estimated Number of Responses: 15 (1 per respondent).

Estimated Hours per Response: 1 hr.

Annual Estimated Total Annual Burden Hours: 15.

Frequency of Response: Annually.

Public Comments Invited: Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

(Authority: The Paperwork Reduction Act of 1995; 44 U.S.C. Chapter 35, as amended; and 49 CFR 1.49.)

* * * * *

Dated: October 2, 2019.
By Order of the Maritime Administrator.
T. Mitchell Hudson, Jr.,
Secretary, Maritime Administration.

[FR Doc. 2019-21821 Filed 10-4-19; 8:45 am]

BILLING CODE 4910-81-P